DEPARTMENT OF THE INTERIOR

Bureau of Land Management

[A2407-014-004-065516; #O2412-014-004-047181.1]

Proposed Reinstatement of Terminated Oil and Gas Leases, Weld County, CO

AGENCY: Bureau of Land Management, Interior.

ACTION: Notice of lease reinstatements.

SUMMARY: In accordance with the Mineral Leasing Act of 1920, Okreek Oil and Gas LLC, Bison IV Properties Colorado, LLC, and Morning Gun Exploration LLC, filed timely petitions with the Bureau of Land Management (BLM) for reinstatement of competitive oil and gas leases located in Pawnee Grasslands, Weld County, Colorado. The lessees paid the required rentals that accrued from the dates of termination. The BLM has not issued new leases that affect these lands prior to receiving the petition. The BLM proposes to reinstate these leases because they meet the requirements of the Mineral Leasing Act and BLM regulations and are in conformance with the existing Eastern Resource Management Plan, signed on January 9, 2024.

FOR FURTHER INFORMATION CONTACT: Scott Curtis, Supervisory Land Law Examiner, Fluid Minerals Adjudication, Bureau of Land Management Colorado State Office, P.O. Box 151029, DFC—Bldg., 40, Lakewood, CO 80215; telephone: (303) 239-3600; email: BLM_CO_LeaseSale@blm.gov.

Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The lessees agreed to the new lease terms for rentals and royalties of $20 per acre, or fraction thereof, per year, and 20 percent respectively. The lessees paid the required $500 administrative fee for lease reinstatement and the $151 cost of publishing this notice. The lessees met the requirements for reinstatement of the leases per section 31(d) and (e) of the Mineral Leasing Act of 1920 (30 U.S.C. 188). The BLM proposes to reinstate the leases referenced below, effective with their respective termination dates, under the original terms and conditions of the leases and the increased rental and royalty rates cited above.

Lease No. | Lessee | Termination date
COCO105304064 (COC77287) | Okreek Oil and Gas LLC | 1/1/2022
COCO105306256 (COC77307) | Okreek Oil and Gas LLC | 1/1/2022
COCO105306257 (COC77308) | Okreek Oil and Gas LLC | 1/1/2022
COCO105310452 (COC77361) | Okreek Oil and Gas LLC | 1/1/2022
COCO105310457 (COC77366) | Bison IV Properties Colorado, LLC (formerly) Upland Exploration | 1/1/2023
COCO105311215 (COC76971) | Morning Gun Exploration LLC | 7/1/2021
COCO105311217 (COC76973) | Morning Gun Exploration LLC | 7/1/2021
COCO105311218 (COC76974) | Morning Gun Exploration LLC | 7/1/2021
COCO105311219 (COC76975) | Morning Gun Exploration LLC | 7/1/2021
COCO105373576 (COC76976) | Morning Gun Exploration LLC | 7/1/2021

(Authority: 30 U.S.C. 188(e)(4) and 43 CFR 3108.23)

Kemba K. Anderson,
Fluid Minerals Branch Chief.

[FR Doc. 2025-14108 Filed 7-25-25; 8:45 am]

BILLING CODE 4331-16-P